DEPARTMENT OF COMMERCE

International Trade Administration

[A-821-802]

Uranium From the Russian Federation; Final Results of the Expedited Fifth Sunset Review of the Suspension Agreement

AGENCY: Enforcement and Compliance, International Trade Administration, Department of Commerce.

SUMMARY: As a result of this sunset review, the U.S. Department of Commerce (Commerce) finds that termination of the Agreement Suspending the Antidumping Investigation on Uranium from the Russian Federation (Agreement) and the suspended antidumping duty investigation would be likely to lead to continuation or recurrence of dumping at the levels indicated in the “Final Results of Review” section of this notice.

DATES: Applicable January 3, 2023.

FOR FURTHER INFORMATION CONTACT: Sally C. Gannon or Jill Buckles, Enforcement and Compliance, International Trade Administration, U.S. Department of Commerce, 1401 Constitution Avenue NW, Washington, DC 20230; telephone: (202) 482-0162 or (202) 482-6230, respectively.

SUPPLEMENTARY INFORMATION:

Background

On September 1, 2022, Commerce initiated the fifth sunset review of the suspended antidumping duty investigation on uranium from the Russian Federation (Russia), pursuant to section 751(c) of the Tariff Act of 1930, as amended (the Act).¹ Commerce received notices of intent to participate in this sunset review from Louisiana Energy Services, LLC (LES); Ur-Energy USA Inc (Ur-Energy); Energy Fuels Resources (USA) Inc. (Energy Fuels); Power Resources, Inc. and Crow Butte Resources, Inc. (PRI and Crow Butte); ConverDyn; Global Laser Enrichment, LLC (GLE); Uranium Producers of America (UPA); and Centrus Energy Corp. and United States Enrichment Corporation (collectively, Centrus) between September 12, 2022, and September 16, 2022, within the applicable deadline specified in section 351.218(d)(1)(i) of Commerce's regulations. Each claimed interested party status under section 771(9) of the Act as producers of the domestic like product, importers of such merchandise, or as a trade association whose members manufacture a domestic like product.

¹ See Initiation of Five-Year (Sunset) Reviews, 87 FR 53727 (September 1, 2022).

Commerce received adequate substantive responses from LES, PRI and Crow Butte, GLE, UPA, Centrus, and Constellation Energy Generation, LLC within the 30-day deadline specified in Commerce's regulations under section 351.218(d)(3)(i). Ur-Energy and Energy Fuels submitted their substantive responses very shortly after the 5:00 p.m. time limit on the due date, and Commerce subsequently extended the time limit and accepted these responses for good cause pursuant to 19 CFR 351.302(b). Commerce did not receive a substantive response from any respondent interested party. As a result, Commerce conducted an expedited (120-day) sunset review, in accordance with 19 CFR 351.218(e)(1)(ii)(C)(2).²

² See Commerce's Letter, “Sunset Reviews Initiated on September 1, 2022,” dated October 25, 2022.

Scope of the Agreement

The product covered by the Agreement is natural uranium in the form of uranium ores and concentrates; natural uranium metal and natural uranium compounds; alloys, dispersions (including cermets), ceramic products, and mixtures containing natural uranium or natural uranium compounds; uranium enriched in U²³⁵ and its compounds; alloys, dispersions (including cermets), ceramic products, and mixtures containing uranium enriched in U²³⁵ or compounds of uranium enriched in U²³⁵; and any other forms of uranium within the same class or kind.

Uranium ore from Russia that is milled into U3O8 and/or converted into UF6 in another country prior to direct and/or indirect importation into the United States is considered uranium from Russia and is subject to the terms of this Agreement.

For purposes of this Agreement, uranium enriched in U²³⁵ or compounds of uranium enriched in U²³⁵ in Russia are covered by this Agreement, regardless of their subsequent modification or blending. Uranium enriched in U²³⁵ in another country prior to direct and/or indirect importation into the United States is not considered uranium from Russia and is not subject to the terms of this Agreement. ³

³ The second amendment of two amendments to the Suspension Agreement effective on October 3, 1996, in part included within the scope of the Suspension Agreement for Russian uranium which had been enriched in a third country prior to importation into the United States. According to the amendment, this modification remained in effect until October 3, 1998. See Amendments to the Agreement Suspending the Antidumping Investigation on Uranium from the Russian Federation, 61 FR 56665, 56667 (November 4, 1996).

HEU is within the scope of the underlying investigation, and HEU is covered by this Agreement. For the purpose of this Agreement, HEU means uranium enriched to 20 percent or greater in the isotope uranium-235.

Imports of uranium ores and concentrates, natural uranium compounds, and all forms of enriched uranium are currently classifiable under the Harmonized Tariff Schedule of the United States (HTSUS) subheadings: 2612.10.00, 2844.10.20, 2844.20.00, respectively. Imports of natural uranium metal and forms of natural uranium other than compounds are currently classifiable under HTSUS subheadings: 2844.10.10 and 2844.10.50. HTSUS subheadings are provided for convenience and Customs purposes. The written description of the scope of this proceeding is dispositive.

Analysis of Comments Received

All issues raised in this sunset review, including the likelihood of continuation or recurrence of dumping and the magnitude of the margin of dumping likely to prevail if the Agreement is terminated, are addressed in the accompanying Issues and Decision Memorandum.⁴ The Issues and Decision Memorandum is a public document and is on file electronically via Enforcement and Compliance's Antidumping and Countervailing Duty Centralized Electronic Service System (ACCESS). ACCESS is available to registered users at https://access.trade.gov. A list of topics discussed in the Issues and Decision Memorandum is included as an appendix to this notice. A complete version of the Issues and Decision Memorandum can be accessed directly at https://access.trade.gov/public/FRNoticesListLayout.aspx.

⁴ See Memorandum, “Issues and Decision Memorandum for the Final Results of the Fifth Sunset Review of the Agreement Suspending the Antidumping Investigation on Uranium from the Russian Federation,” dated concurrently with, and hereby adopted by, this notice (Issues and Decision Memorandum).

Final Results of Review

Pursuant to section 752(c) of the Act, Commerce determines that termination of the Agreement and suspended investigation on uranium from Russian would likely lead to continuation or recurrence of dumping at a margin of up to 115.82 percent.

Administrative Protective Order

This notice also serves as the only reminder to parties subject to an administrative protective orders (APO) of their responsibility concerning the return or destruction of proprietary information disclosed under APO in accordance with 19 CFR 351.305. Timely written notification of the return or destruction of APO materials or conversion to judicial protective order is hereby requested. Failure to comply with the regulations and terms of an APO is a violation subject to sanction.

Notification to Interested Parties

We are issuing and publishing these results and notice in accordance with sections 751(c), 752(c), and 777(i)(1) of the Act and 19 CFR 351.218.

Dated: December 27, 2022.
Lisa W. Wang,
Assistant Secretary for Enforcement and Compliance.

Appendix—List of Topics Discussed in the Issues and Decision Memorandum

I. Summary

II. Background

III. Scope of the Agreement

IV. History of the Agreement

V. Legal Framework

VI. Discussion of the Issues

1. Likelihood of Continuation or Recurrence of Dumping

2. Magnitude of Margin Likely to Prevail

VII. Final Results of Expedited Review

VIII. Recommendation

[FR Doc. 2022-28532 Filed 12-30-22; 8:45 am]

BILLING CODE 3510-DS-P